DEPARTMENT OF COMMERCE

International Trade Administration

[A-533-930]

Certain High Chrome Cast Iron Grinding Media From India: Final Affirmative Determination of Sales at Less Than Fair Value

AGENCY: Enforcement and Compliance, International Trade Administration, Department of Commerce.

SUMMARY: The U.S. Department of Commerce (Commerce) determines that certain high chrome cast iron grinding media (grinding media) from India is being, or is likely to be, sold in the United States at less than fair value (LTFV). The period of investigation (POI) is April 1, 2023, through March 31, 2024.

DATES: Applicable April 28, 2025.

FOR FURTHER INFORMATION CONTACT: Charles DeFilippo, AD/CVD Operations, Office VII, Enforcement and Compliance, International Trade Administration, U.S. Department of Commerce, 1401 Constitution Avenue NW, Washington, DC 20230; telephone: (202) 482-3797.

SUPPLEMENTARY INFORMATION:

Background

On December 6, 2024, Commerce published the Preliminary Determination in the Federal Register.¹ A summary of the events that occurred since the Preliminary Determination, as well as a full discussion of the issues raised by parties for this final determination, may be found in the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Certain High Chrome Cast Iron Grinding Media from India: Preliminary Affirmative Determination of Sales at Less Than Fair Value, Postponement of Final Determination, and Extension of Provisional Measure, 89 FR 96939 (December 6, 2024) (Preliminary Determination), and accompanying Preliminary Decision Memorandum (PDM).

² See Memorandum, “Issues and Decision Memorandum for the Final Affirmative Determination in the Less-Than-Fair-Value Investigation of Certain High Chrom Case Iron Grinding Media from India,” dated concurrently with, and hereby adopted by, this notice (Issues and Decision Memorandum).

Scope of the Investigation

The product covered by this investigation is grinding media from India. For a complete description of the scope of this investigation, see Appendix I.

Scope Comments

We received no comments from interested parties on the scope of the investigation as it appeared in the Preliminary Determination.³ Therefore, we made no changes to the scope of the investigation from that published in the Preliminary Determination for the final determination.

³ See Preliminary Determination.

Verification

Commerce conducted verification of the information relied upon in making its final determination in this investigation, in accordance with section 782(i) of the Act. Specifically, Commerce conducted on-site verifications of the sales and cost information submitted by AIA Engineering Limited (AIAEL) and its affiliates (collectively, AIA).⁴ We used standard verification procedures, including an examination of relevant sales and accounting records, and original source documents provided by AIA.

⁴ See Memorandum, “Verification of the Sales Response of AIA Engineering Limited and Vega Industries in the Antidumping Investigation of Certain High Chrome Cast Iron Grinding Media from India,” dated March 20, 2025; see also Memorandum, “Verification of the Cost Responses of AIA Engineering Limited and Welcast Steel Limited in the Less Than Fair Value Investigation of Certain High Chrome Cast Iron Grinding Media from India” dated March 31, 2025.

Analysis of Comments Received

All issues raised in the case and rebuttal briefs submitted by interested parties in this investigation are addressed in the Issues and Decision Memorandum. A list of the issues addressed in the Issues and Decision Memorandum is attached to this notice as Appendix II.

Changes Since the Preliminary Determination

Based on a review of the record and comments received from interested parties regarding the Preliminary Determination, we made certain changes to AIA's preliminary weighted-average dumping margin calculations. For a discussion of these changes, see the Issues and Decision Memorandum.

All-Others Rate

Section 735(c)(5)(A) of the Act provides that the estimated weighted-average dumping margin for all other producers and exporters not individually investigated shall be equal to the weighted average of the estimated weighted-average dumping margins established for exporters and producers individually investigated, excluding rates that are zero, de minimis, or determined entirely under section 776 of the Act.

In this investigation, Commerce calculated an estimated weighted-average dumping margin for AIA that is not zero, de minimis, or based entirely on facts otherwise available. Consequently, for this final determination, the estimated weighted-average dumping margin calculated for AIA is the estimated weighted-average dumping margin for all other producers and exporters.

Final Determination

Commerce determines that the following estimated weighted-average dumping margins exist:

Exporter/producer | Weighted- average dumping margin (percent)
AIA Engineering Limited ⁵ | 9.58
All Others | 9.58

Disclosure

⁵ We received no comments from interested parties on the affiliation and collapsing analysis determination as it appeared in the Preliminary Determination.⁵ Therefore, we made no changes from the Preliminary Determination and determine that AIAEL and Welcast Steel Limited (Welcast) are a single entity. In addition, we determine that AIAEL is affiliated with Vega Industries (Middle East) F.Z.C (Vega ME) and Vega Industries Ltd., USA (Vega USA). See Memorandum, “Preliminary Affiliation and Collapsing Memorandum for AIA Engineering Limited, Welcast Steel Limited, Vega Industries (Middle East) F.Z.C, and Vega Industries Ltd., USA,” dated concurrently with this memorandum (Collapsing Memorandum).

Commerce intends to disclose the calculations and analysis performed in connection with this final determination to interested parties within five days of any public announcement or, if there is no public announcement, within five days of the publication date of this notice in the Federal Register, in accordance with 19 CFR 351.224(b).

Continuation of Suspension of Liquidation

In accordance with section 735(c)(1)(B) of the Act, Commerce will instruct U.S. Customs and Border Protection (CBP) to continue to suspend liquidation of entries of subject merchandise, as described in Appendix I of this notice, which were entered, or withdrawn from warehouse, for consumption, on or after December 6, 2024, the date of publication of the Preliminary Determination in the Federal Register. These suspension of liquidation instructions will remain in effect until further notice.

Pursuant to section 735(c)(1)(B)(ii) of the Act and 19 CFR 351.210(d), upon the publication of this notice, we will instruct CBP to require a cash deposit for estimated antidumping duties for such entries as follows: (1) the cash deposit rates for the companies listed in the table above are the company-specific estimated weighted-average dumping margins determined in this final determination; (2) if the exporter is not a respondent listed in the table above, but the producer is, then the cash deposit rate is the company-specific estimated weighted-average dumping margin established for that producer of the subject merchandise; and (3) the cash deposit rate for all other producers and exporters is the all-others estimated weighted-average dumping margin listed in the table above. These suspension of liquidation instructions will remain in effect until further notice.

U.S. International Trade Commission (ITC) Notification

In accordance with section 735(d) of the Act, Commerce will notify the ITC of the final affirmative determination of sales at LTFV. Because Commerce's final determination is affirmative, in accordance with section 735(b)(2) of the Act, the ITC will make its final determination as to whether the domestic industry in the United States is materially injured, or threatened with material injury, by reason of imports or sales (or the likelihood of sales) for importation of AIA no later than 45 days after this final determination. If the ITC determines that such injury does not exist, this proceeding will be terminated, all cash deposits posted will be refunded, and suspension of liquidation will be lifted. If the ITC determines that such injury does exist, Commerce will issue an antidumping order directing CBP to assess, upon further instruction by Commerce, antidumping duties on all imports of the subject merchandise entered, or withdrawn from warehouse, for consumption on or after the effective date of the suspension of liquidation, as discussed above in the “Continuation of Suspension of Liquidation” section.

Administrative Protective Order (APO)

This notice will serve as a final reminder to parties subject to an APO of their responsibility concerning the disposition of proprietary information disclosed under APO in accordance with accordance with 19 CFR 351.305(a)(3). Timely written notification of the return or destruction of APO materials or conversion to judicial protective order is hereby requested. Failure to comply with the regulations and the terms of an APO is a sanctionable violation.

Notification to Interested Parties

This determination is issued and published in accordance with section s 735(d) and 777(i)(1) of the Act, and 19 CFR 351.210(c).

Dated: April 21, 2025.
Christopher Abbott,
Deputy Assistant Secretary for Policy and Negotiations, performing the non-exclusive functions and duties of the Assistant Secretary for Enforcement and Compliance.

Appendix I

Scope of the Investigation

The scope of this investigation covers chrome cast iron grinding media in spherical (ball) or ovoid shape, with an alloy composition of seven percent or more (≥7 percent of total mass) chromium (Cr) content and produced through the casting method, with a nominal diameter of up to 127 millimeters (mm) and tolerance of plus or minus 10 mm. The products covered by the scope are currently classified under Harmonized Tariff Schedule of the United States (HTSUS) subheading 7325.91.0000. This HTSUS subheading is provided for convenience and U.S. Customs purposes only. The written description of the scope is dispositive.

Appendix II

List of Topics Discussed in the Issues and Decision Memorandum

I. Summary

II. Background

III. Changes from the Preliminary Determination

IV. Discussion of the Issues

Comment 1: Whether to include the “Freight Recovered” and “Other Charges Recovered” in the Calculation of U.S. Net Price

Comment 2: Whether to Adjust AIA's U.S. Indirect Selling Expense Ratio

Comment 3: Whether to Exclude Certain U.S. Sales Delivered through an Intermediary Third Country in the U.S. Sales Database

Comment 4: Whether to Include Reported Third Country Sales in the Home Market Database

V. Recommendation

[FR Doc. 2025-07288 Filed 4-25-25; 8:45 am]

BILLING CODE 3510-DS-P